DEPARTMENT OF AGRICULTURE

Forest Service

Willamette National Forest, McKenzie River Ranger District; Oregon; Goose Project

AGENCY: Forest Service, USDA.

ACTION: Notice of intent to prepare an environmental impact statement.

SUMMARY: We propose to commercially harvest approximately 2,134 acres, reduce hazardous fuels through non-commercial thinning on ~588 acres, and implement understory prescribe fire on ~80 to ~679 acres within the McKenzie Bridge Wildland-Urban Interface. Commercial harvest treatments would be comprised of variable density thinning on ~2,085 acres (that includes gap creations and no-cut leave areas) and regeneration harvest on ~49 acres (through a two-aged system that would allow for the regeneration of younger trees underneath residual trees left from the original canopy). The proposed action would also include maintenance of approximately 43 miles of road and creation of approximately 8 miles of temporary roads. The project area surrounds the community of McKenzie Bridge and is intermixed with private and national forest lands. The proposed project would manage stands to improve stand conditions: Diversity, density, and structure; reduce hazardous fuel levels in the McKenzie Bridge Wildland-Urban Interface; and provide for a sustainable supply of timber products from within the project area.

DATES: Comments concerning the scope of the analysis must be received by May 30, 2014. The draft environmental impact statement is expected September 2014, and the final environmental impact statement is expected November 2014.

ADDRESSES: Send written comments to 57600 McKenzie HWY, McKenzie Bridge, OR 97413. Comments may also be sent via email to comments-pacificnorthwest-willamette-mckenzieriver@fsfed.us, or via facsimile to 541-822-7254. District open-house public meetings will be held at the McKenzie River district office (57600 McKenzie Hwy, McKenzie Bridge, OR 97413) on April 24, 2014 and May 1, 2014 from 1 p.m.-7 p.m. Goose open-house meetings will be held on May 2, 2014 at McKenzie Bridge, OR and May 9, 2014 at Leaburg, OR both from 5:30 p.m. to 7:30 p.m. at locations to be determined (please contact our office at 541-822-3381 for updated information). These meetings provide additional opportunity for you to submit any scoping comments you may have.

FOR FURTHER INFORMATION CONTACT: James Rudisill atjamesrudisill@fs.fed.us or at 541-822-7203. Individuals who use telecommunication devices for the deaf (TDD) may call the Federal Information Relay Service (FIRS) at 1-800-877-8339 between 8 a.m. and 8 p.m., Eastern Time, Monday through Friday.

SUPPLEMENTARY INFORMATION:

Background

On March 21, 2013, Judge Ann Aiken, United States District Judge, provided an Opinion and Order on Case No. 6:12-cv-00804-AA (Cascadia Wildlands and Oregon Wild, plaintiffs, v. United States Forest Service, defendant). The case involved a challenge to the authorization of the Goose Project (#29829) that had previously been decided on by the Forest Service on 09/13/2010 through the documentation of an Environmental Assessment and a corresponding Decision Notice and Finding of No Significant Impact. The Court found all but one of the plaintiffs' arguments without merit. The Court found that the Forest Service provided a reasonably thorough analysis, adequately supported by materials in the administrative record, of the effects and consequences of the project on potential wilderness, the northern spotted owl, and riparian reserves. Although the Court found that the Forest Service disclosed such effects properly, this does not mean that it necessarily renders them insignificant.

The Court stressed the importance that a significant effect need not actually occur to require the preparation of an Environmetal Impact Statement under the National Environmental Policy Act. The court stated that if there exists a substantial question as to whether a project may have a significant effect on the environment, then it is sufficient to trigger the preparation of an Environmetal Impact Statement. In this context, it was the court's opinion that the environmental effects on potential wilderness, riparian reserves, and the northern spotted owl, although properly disclosed in the analysis of the Goose Project, still raised enough question as to whether they could be considered significant. As a result, the Court enjoined the Forest Service from moving forward with the Goose Project until an Environmental Impact Statement is prepared. Prior to the decision being litigated three timber sales contracts were awarded and are currently outstanding. These timber sale contracts are Ten Reoffer (contract #002679, awarded to Seneca Sawmill), Golden (contract #002703, awarded to Seneca Sawmill), and Pegasus (contract #002638, awarded to Freres Lumber). The Forest Service is preparing an Environmental Impact Statement for the Goose Project in response to the Court's Order and Opinion.

Purpose and Need for Action

The purpose of this project is to manage stands to improve stand conditions: Diversity, density, and structure; reduce hazardous fuel levels in the McKenzie Bridge Wildland-Urban Interface; and provide for a sustainable supply of timber products from within the Goose Project area, which covers a total of 13,181 acres of federal forested lands.

A reduction in fires on the landscape over the past century, coupled with in-growth of existing openings, has resulted in a deficient amount of young, regenerating early seral habitat on federal lands here. The project area contains four elk emphasis areas, three of which do not currently meet the Willamette Land and Resource Management Plan Standards and Guidelines for elk forage values. There is a need to enhance, create, and/or maintain regenerating early seral habitat in the project area to support wildlife species that depend on it.

Riparian Reserves within the selected treatment units generally consist of dense and overstocked stands. Thinning is proposed in order to provide accelerated development of late successional connectivity, large diameter trees as large wood sources in streams and Riparian Reserves, and complex habitat structures representative of those that would result from natural disturbance patterns.

Fire suppression has also resulted in increased fuel loading consisting of surface fuels, ladder fuels, and dense overstory canopies that increase potential impacts and risks to people, structures, and resources within and around the McKenzie Bridge Wildland-Urban Interface. There is a need to treat hazardous fuels to reduce potential wildfire impacts and risk to private homes and other structures. This proposal is in alignment with the recommendations of the 2005 Lane County Community Wildfire Protection Plan and work the Oregon Department of Forestry has started to create defensible space around private residences in the McKenzie Bridge Wildland-Urban Interface.

Forest stands selected for treatment are overstocked, from a tree health perspective, which decreases individual tree growth and increases tree and stand stress. This leads to an increase in a stand's susceptibility to successful insect and disease attack as well as competition-related mortality. The project would address this through tree thinning that removes some trees and leaves primarily the largest and healthiest trees, which then have a greater amount of resources available. As a result stand vigor would increase, and released trees would develop into larger trees more quickly. Tree species, age, and structure diversity would be maintained or enhanced.

One of the management goals of the Willamette National Forest Land and Resource Management Plan (Willamette Forest Plan) is to provide a sustained yield of timber for commercial products (p, IV-5). The 1994 Record of Decision and Standards and Guidelines for Management of Habitat for Late-Successional and Old-Growth Related Species Within the Range of the Northern Spotted Owl (Northwest Forest Plan) amends the Willamette Forest Plan and also recognizes “the need for a sustainable supply of timber . . . on a predictable and long-term basis” (p. 26). All of the proposed activity units are within the Adaptive Management Area and Matrix land management allocations that are identified as the areas where most of the scheduled timber harvest will occur (p C-39). The management of selected stands provides forest products in a manner that meets direction provided in the Willamette Forest Plan as amended by the Northwest Forest Plan.

Proposed Action

We propose to commercially harvest approximately 2,134 acres, reduce hazardous fuels through non-commercial thinning on ~588 acres, and implement understory prescribe fire on ~80 to ~679 acres within the McKenzie Bridge Wildland-Urban Interface. Commercial harvest treatments would be comprised of variable density thinning on ~2,085 acres (that includes gap creations and no-cut leave areas) and regeneration harvest on ~49 acres. Reforestation would be implemented in regeneration units. Some variable thinning would include dominant tree release (including sugar pine release) and some would include a greater emphasis on creating early seral wildlife gaps. Harvest operations would be implemented by helicopter (451 acres), skyline (640 acres), and ground based (1,009 acres) logging systems. Fuel reductions would be implemented by hand and mechanical methods of ramoval and/or piling fuels that would then be burned on site through pile burning or understory prescribed fire. The proposed action would also include maintenance of approximately 43 miles of road and creation of approximately 8 miles of temporary roads.

Responsible Official, McKenzie River District Ranger

Nature of Decision To Be Made

Given the purpose and need, the scope of the decision to be made by the responsible official will be as follows:

• Do the proposed actions comply with all applicable laws governing Forest Service actions?

• Do the proposed actions comply with the applicable Standards and Guidelines found in the Willamette Land and Resource Management Plan (LRMP)?

○ If not, will the action amend the LRMP?

• Does the Environmental Impact Statement have sufficient site-specific environmental analysis to make an informed decision?

• Do the proposed actions meet the purpose and need for action?

With these assurances the responsible official must decide:

• Whether or not to select the proposed action or one of any other potential alternatives that may be developed, and what, if any, additional actions should be required.

• Do any of the reasonably selectable alternatives, based on the criteria stated above, best meet the outstanding contractural obligations of the Forest Service on timber sales sold under the original Goose decision? And if so, is this an effective way to meet the intent of the project while meeting these obligations?

Scoping Process

This notice of intent initiates the scoping process, which guides the development of the environmental impact statement. District open-house public meetings will be held for your convenience at the McKenzie River district office (57600 McKenzie Hwy, McKenzie Bridge, OR 97413) on April 24, 2014 and May 1, 2014 from 1 p.m.-7 p.m. Goose open-house meetings will be held on May 2, 2014 at McKenzie Bridge, OR and May 9, 2014 at Leaburg, OR from 5:30 p.m. to 7:30 p.m. at locations to be determined (please contact our office at 541-822-3381 for updated information). All of these meetings provide an opportunity to gain more information regarding this proposed project and also provide an opportunity for you to submit any scoping comments you may have. We are interested in your comments on the following questions:

• Are there alternative ways to meet the purpose of the project other than the proposed action we offer, which you would like the Forest Service to consider and analyze?

• Is there any information about the project area, which you believe is important in the context of the proposed activities that you would like the Forest Service to consider?

• What specifically are the potential effects of this proposal that you are particularly concerned about? For example, rather than simply stating that you would like a change in a proposed activity or that you would not like an activity to take place, it is most helpful to understand why you desire this. What are your underlying concerns with an activity or action; what are the effects from the activity that concern you?

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: April 18, 2014.
Terry Baker,
District Ranger.

[FR Doc. 2014-09700 Filed 4-29-14; 8:45 am]

BILLING CODE 3410-11-M